DEPARTMENT OF THE TREASURY

Office of Foreign Assets Control

Sanctions Actions Pursuant to Executive Orders 13382, 13572, 13573, and 13582

AGENCY: Office of Foreign Assets Control, Treasury.

ACTION: Notice.

SUMMARY: The U.S. Department of the Treasury's Office of Foreign Assets Control (OFAC) is publishing the names of two persons whose property and interests in property are blocked pursuant to Executive Order (E.O.) 13382, three persons whose property and interests in property are blocked pursuant to E.O. 13572, seven persons whose property and interests in property are blocked pursuant to E.O. 13573, and 11 persons whose property and interests in property are blocked pursuant to E.O. 13582.

DATES: OFAC's actions described in this notice were effective on December 23, 2016, as further specified below.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The Specially Designated Nationals and Blocked Persons List and additional information concerning OFAC sanctions programs are available on OFAC's Web site (www.treas.gov/ofac).

Notice of OFAC Actions

On December 23, 2016, OFAC blocked the property and interests in property of the following two persons pursuant to E.O. 13382, “Blocking Property of Weapons of Mass Destruction Proliferators and Their Supporters”:

Individual

1. ALLOUCH, Aziz (a.k.a. 'ALLUSH, 'Aziz Ahmad); DOB 26 Oct 1977; General Director, Technolab (individual) [NPWMD] (Linked To: NATIONAL STANDARDS AND CALIBRATION LABORATORY; Linked To: HIGHER INSTITUTE OF APPLIED SCIENCE AND TECHNOLOGY; Linked To: TECHNOLAB; Linked To: SCIENTIFIC STUDIES AND RESEARCH CENTER).

Entity

1. TECHNOLAB (a.k.a. “TECHNO LAB”), Trabolsi Bldg, 2nd Floor, Main Road, Deir El Zahrani, Nabatieh, Lebanon; Registration ID 6000845 Nabatieh (Lebanon) [NPWMD] (Linked To: SCIENTIFIC STUDIES AND RESEARCH CENTER; Linked To: NATIONAL STANDARDS AND CALIBRATION LABORATORY; Linked To: HIGHER INSTITUTE OF APPLIED SCIENCE AND TECHNOLOGY).

On December 23, 2016, OFAC additionally blocked the property and interests in property of the following three persons pursuant to E.O. 13572, “Blocking Property of Certain Persons With Respect to Human Rights Abuses in Syria”:

Individual

1. MUHANNA, Adib (a.k.a. MHANNA, Adib; a.k.a. MOUHANNA, Adib; a.k.a. MUHANA, Adib); DOB 1983; POB Syria; nationality Syria; Passport 3141732 (Syria) (individual) [SYRIA] (Linked To: MAKHLUF, Rami).

Entities

1. AL-HISN (a.k.a. AL-HISN FIRM; a.k.a. AL-HISN FIRM FOR SECURITY PROTECTION AND GUARD SERVICES; a.k.a. AL-HUSN), Jurmana, Damascus, Syria [SYRIA] (Linked To: MAKHLUF, Rami).

2. AL-QASIUN (a.k.a. AL-QASIUN FIRM; a.k.a. AL-QASIUN SECURITY SERVICES LLC; a.k.a. QASIYUN; a.k.a. QASIYUN SECURITY COMPANY), Jurmana, Damascus, Syria [SYRIA] (Linked To: MAKHLUF, Rami).

On December 23, 2016, OFAC additionally blocked the property and interests in property of the following seven persons pursuant to E.O. 13573, “Blocking Property of Senior Officials of the Government of Syria.”

Individuals

1. AL-HAMO, Ahmad (a.k.a. AL-HAMU, Ahmad; a.k.a. HAMOU, Ahmed); DOB 1947; Minister of Industry (individual) [SYRIA].

2. AL-ZAFIR, Ali (a.k.a. AL-DAFEER, Ali); DOB 1962; POB Tartous, Syria; Minister of Communications and Technology; Minister of Telecommunication and Technology (individual) [SYRIA].

3. DURGHAM, Dureid (a.k.a. DERGHAM, Douraid; a.k.a. DERGHAM, Duraid); DOB 1964; Governor of the Central Bank of Syria (individual) [SYRIA].

4. GHANEM, Ali; DOB 1963; POB Damascus, Syria; Minister of Oil; Minister of Petroleum and Mineral Wealth; Minister of Petroleum and Mineral Resources (individual) [SYRIA].

5. HAMDAN, Mamun (a.k.a. HAMDAN, Dr. Maamoun; a.k.a. HAMDAN, Dr. Mamoun); DOB 1958; POB Damascus, Syria; Minister of Finance (individual) [SYRIA].

6. HAMMUD, Ali (a.k.a. HAMMOUD, Ali; a.k.a. HAMOUD, Ali); DOB 1964; POB Tartous, Syria; Minister of Transport (individual) [SYRIA].

7. TURJUMAN, Muhammad Ramiz (a.k.a. TARJAMAN, Ramez; a.k.a. TORGAMAN, Mohammed Ramez; a.k.a. TOURJMAN, Mohammed Ramez; a.k.a. TOURJUMAN, Mohamed Ramez; a.k.a. TURGEMAN, Mohammed Ramez); DOB 1966; POB Damascus, Syria; Minister of Information (individual) [SYRIA].

On December 23, 2016, OFAC blocked the property and interests in property of the following 11 persons pursuant to E.O. 13582, “Blocking Property of the Government of Syria and Prohibiting Certain Transactions with Respect to Syria”:

Individuals

1. AKHLOMOV, Nikolay (a.k.a. AKHLOMOV, Nikolay Vasilyevich); DOB 25 Apr 1960; Deputy Chairman, Executive Board, Tempbank (individual) [SYRIA] (Linked To: TEMPBANK).

2. APANASENKO, Elena (a.k.a. APANASENKO, Elena Mikhailovna); DOB 19 Sep 1970; Deputy Chairman, Executive Board, Tempbank (individual) [SYRIA] (Linked To: TEMPBANK).

3. DUBINYAK, Andrey (a.k.a. DUBINYAK, Andrey Grigoryevich); DOB 19 Apr 1948; Chairman of Supervisory Board, Tempbank (individual) [SYRIA] (Linked To: TEMPBANK).

4. GAGLOEV, Vladimir (a.k.a. GAGLOYEV, Vladimir Georgiyevich; a.k.a. GAGLOEV, Vladimir Georgyevich); DOB 14 Jan 1974; Supervisory Board Member, Tempbank (individual) [SYRIA] (Linked To: TEMPBANK).

5. KOZHENKOVA, Irina (a.k.a. KOZHENKOVA, Irina Vyacheslavovna); DOB 16 Nov 1973; Deputy Chairman, Executive Board, Tempbank (individual) [SYRIA] (Linked To: TEMPBANK).

6. MITYAEV, Dmitriy (a.k.a. MITYAEV, Dmitriy Arkadyevich); DOB 20 May 1966; Supervisory Board Member, Tempbank (individual) [SYRIA] (Linked To: TEMPBANK).

7. RESHETNIKOV, Leonid (a.k.a. RESHETNIKOV, Leonid Petrovich); DOB 06 Feb 1947; Supervisory Board Member, Tempbank (individual) [SYRIA] (Linked To: TEMPBANK).

8. VAINSHTEIN, Arkadiy (a.k.a. VAINSHTEIN, Arkadiy Mikhailovich); DOB 30 Dec 1941; Supervisory Board Member, Tempbank (individual) [SYRIA] (Linked To: TEMPBANK).

9. ZHIROVA, Elena (a.k.a. ZHIROVA, Elena Borisnova); DOB 1963; Supervisory Board Member, Tempbank (individual) [SYRIA] (Linked To: TEMPBANK).

Entities

Dated: December 23, 2016.
Gregory T. Gatjanis,
Acting Director, Office of Foreign Assets Control.

[FR Doc. 2017-01443 Filed 1-23-17; 8:45 am]

BILLING CODE 4810-AL-P